NATIONAL FOUNDATION ON THE ARTS AND THE HUMANITIES

National Council on the Arts 177th Meeting

AGENCY: National Endowment for the Arts, National Foundation on the Arts and the Humanities.

ACTION: Notice of meeting.

SUMMARY: Pursuant to section 10 (a)(2) of the Federal Advisory Committee Act (Pub. L. 92-463), as amended, notice is hereby given that a meeting of the National Council on the Arts will be held at the Nancy Hanks Center, 1100 Pennsylvania Avenue NW., Washington, DC 20506. Agenda times are approximate.

DATES: October 26, 2012 from 9 a.m. to 11:30 a.m. in Room M-09.

FOR FURTHER INFORMATION CONTACT: Office of Public Affairs, National Endowment for the Arts, Washington, DC 20506, at 202/682-5570.

SUPPLEMENTARY INFORMATION: The meeting, on Friday, October 26th, will be open to the public on a space available basis. The meeting will begin with opening remarks, swearing in of new Council member Paul W. Hodes, and voting on recommendations for funding and rejection and guidelines, followed by updates by the Chairman. There will also be the following presentations: from 9:45 a.m. to 10:30 a.m.—London Cultural Olympiad/2012 Summer Olympics Presentation (Elizabeth Streb, Director of STREB Lab for Action Mechanics); from 10:30 a.m. to 11 a.m.—NEA/Bureau of Economic Analysis Partnership Presentation (David Wasshausen, Division Chief, U.S. Department of Commerce/Bureau of Economic Analysis); from 11 a.m. to 11:15 a.m.—Media Arts Presentation (Sue Schardt, Executive Director of The Association of Independents in Radio); 11:15 a.m. to 11:30 a.m.—concluding remarks and voting results. The meeting will adjourn at 11:30 a.m.

For information about webcasting of the open session of this meeting, go to the Podcasts, Webcasts, & Webinars tab at www.arts.gov.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/TTY 202/682-5496, at least seven (7) days prior to the meeting.

Dated: October 4, 2012.
Kathy Plowitz-Worden,
Panel Coordinator, Office of Guidelines and Panel Operations.

[FR Doc. 2012-24892 Filed 10-9-12; 8:45 am]

BILLING CODE 7537-01-P